DEPARTMENT OF HOMELAND SECURITY

U.S. Citizenship and Immigration Services

[OMB Control Number 1615-0009]

Agency Information Collection Activities: Petition for Nonimmigrant Worker, Form I-129; Extension, Without Change, of a Currently Approved Collection

AGENCY: U.S. Citizenship and Immigration Services, Department of Homeland Security.

ACTION: 60-Day notice.

SUMMARY: The Department of Homeland Security (DHS), U.S. Citizenship and Immigration (USCIS) invites the general public and other Federal agencies to comment upon this proposed extension of a currently approved collection of information or new collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments.

DATES: Comments are encouraged and will be accepted for 60 days until September 19, 2016.

ADDRESSES: All submissions received must include the OMB Control Number 1615-0009 in the subject box, the agency name and Docket ID USCIS-2005-0030. To avoid duplicate submissions, please use only one of the following methods to submit comments:

(1) Online. Submit comments via the Federal eRulemaking Portal Web site at http://www.regulations.gov under e-Docket ID number USCIS-2005-0030;

(2) Email. Submit comments to USCISFRComment@uscis.dhs.gov;

(3) Mail. Submit written comments to DHS, USCIS, Office of Policy and Strategy, Chief, Regulatory Coordination Division, 20 Massachusetts Avenue NW., Washington, DC 20529-2140.

FOR FURTHER INFORMATION CONTACT: USCIS, Office of Policy and Strategy, Regulatory Coordination Division, Samantha Deshommes, Chief, 20 Massachusetts Avenue NW., Washington, DC 20529-2140, Telephone number (202) 272-8377 (This is not a toll-free number. Comments are not accepted via telephone message). Please note contact information provided here is solely for questions regarding this notice. It is not for individual case status inquiries. Applicants seeking information about the status of their individual cases can check Case Status Online, available at the USCIS Web site at http://www.uscis.gov, or call the USCIS National Customer Service Center at (800) 375-5283; TTY (800) 767-1833.

SUPPLEMENTARY INFORMATION:

Comments

You may access the information collection instrument with instructions, or additional information by visiting the Federal eRulemaking Portal site at: http://www.regulations.gov and enter USCIS-2005-0030 in the search box. Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Background

On December 31, 2015, USCIS published a Notice of Proposed Rulemaking (NPRM) in the Federal Register at 80 FR 81900 proposing to amend its regulations related to certain employment-based immigrant and nonimmigrant visa programs. The NPRM allowed for a 60-day public comment period on proposed amendments and 27,979 commenters responded. As part of the proposed regulatory amendments, USCIS proposed several revisions to Form I-129, Petition for Nonimmigrant Worker. USCIS invited the public to submit comments regarding proposed revisions to Form I-129 as part the NPRM's 60-day public comment period in accordance to 5 CFR 1320.11. USCIS is currently reviewing those public comments in consideration of how to address and/or revise its proposed amendments.

Under 5 CFR 1320.5(a), USCIS is required to evaluate comments received under § 1320.11. In addition, 5 CFR 1320.5(b) requires USCIS to ensure that Form I-129 displays a currently valid OMB control number. As USCIS continues its careful review and evaluation of the public comments received from 27,979 commenters, USCIS must ensure that Form I-129 continues to display a currently valid OMB control number. Currently, Form I-129 is set to expire on October 31, 2016. To ensure Form I-129 retains a valid OMB control number during review and evaluation of the public comments received from 27,979 commenters, USCIS must implement an Extension, Without Change, of a Currently Approved Collection.

Overview of This Information Collection

(1) Type of Information Collection: Extension, Without Change, of a Currently Approved Collection.

(2) Title of the Form/Collection: Petition for Nonimmigrant Worker.

(3) Agency form number, if any, and the applicable component of the DHS sponsoring the collection: I-129; USCIS.

(4) Affected public who will be asked or required to respond, as well as a brief abstract: Primary: Business or other for-profit; Not-for-profit institutions. This form is used by an employer to petition for aliens to come to the U.S. temporarily to perform services, labor, and training or to request extensions of stay or changes in nonimmigrant status for nonimmigrant workers.

(5) An estimate of the total number of respondents and the amount of time estimated for an average respondent to respond: The estimated total number of respondents for the information collection Form I-129 is 333,891 and the estimated hour burden per response is 2.34 hours.

(6) An estimate of the total public burden (in hours) associated with the collection: The total estimated annual hour burden associated with this collection is 1,631,400 hours.

(7) An estimate of the total public burden (in cost) associated with the collection: The estimated total annual cost burden associated with this collection of information is $78,027,021.25.

Dated: July 13, 2016.
Samantha Deshommes,
Chief, Regulatory Coordination Division, Office of Policy and Strategy, U.S. Citizenship and Immigration Services, Department of Homeland Security.

[FR Doc. 2016-17042 Filed 7-18-16; 8:45 am]

BILLING CODE 9111-97-P